DEPARTMENT OF TRANSPORTATION

National Highway Traffic Safety Administration

[U.S. DOT Docket Number NHTSA-2014-0018]

Reports, Forms, and Recordkeeping Requirements

AGENCY: National Highway Traffic Safety Administration (NHTSA), Department of Transportation.

ACTION: Request for public comment on an extension of a currently approved collection.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before May 20, 2014.

ADDRESSES: Comments must refer to the docket notice numbers cited at the beginning of this notice and be submitted to Docket Management, Room W12-140, Ground Level, 1200 New Jersey Avenue SE., Washington, DC 20590 by any of the following methods.

• Federal eRulemaking Portal: http://www.regulations.gov. Follow the instructions for submitting comments.

• Agency Web site: http://dms.dot.gov. Follow the instructions for submitting comments on the Docket Management System.

• Fax: (202) 493-2251.

• Mail: Docket Management Facility; U.S. Department of Transportation, 1200 New Jersey Avenue SE., West Building Ground Floor, Room W12-140, Washington, DC 20590.

• Hand Delivery/Courier: 1200 New Jersey Avenue SE., West Building Ground Floor, Room W12-140, Washington, DC 20590, between 9 a.m. and 5 p.m., Monday through Friday, except Federal Holidays. Telephone: 1-800-647-5527.

Instructions: All submissions must include the agency name and docket number for this proposed collection of information. Note that all comments received will be posted without change to http://dms.dot.gov including any personal information provided.

Docket: For access to the docket to read background documents or comments received, go to http://dms.dot.gov at any time or to Room W12-140 on the ground level of the DOT Building, 1200 New Jersey Avenue SE., West Building, Ground Floor, Washington, DC, between 9 a.m. and 5 p.m., Monday through Friday, except Federal Holidays.

FOR FURTHER INFORMATION CONTACT: Complete copies of each request for collection of information may be obtained at no charge from Carlita Ballard, NHTSA 1200 New Jersey Avenue SE., Room W43-439, NVS-131, Washington, DC 20590. Ms. Ballard's telephone number is (202) 366-5222. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information.

The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected and;

(iv) How to minimize the burden of the collection of information on those who are to respond, including the use of appropriate automated, electronic, mechanical, or other technological collection techniques or other forms of information technology, e.g. permitting electronic submission of responses.

In compliance with these requirements, NHTSA asks for public comments on the following proposed collections of information:

Title: Petitions for Exemption From the Vehicle Theft Prevention Standard (49 CFR Part 543).

OMB Control Number: 2127-0542.

Form Number: None.

Affected Public: Motor vehicle manufacturers.

Requested Expiration Date of Approval: Three years from approval date.

Abstract: Manufacturers of passenger vehicle lines may petition the agency for an exemption from Part 541 requirements, if the line is equipped with an anti-theft device as standard equipment and meets agency criteria. Device must be as effective as parts-marking.

Estimated Annual Burden: 1,826.

Number of Respondents: 11.

49 U.S.C. Chapter 331 requires the Secretary of Transportation to promulgate a theft prevention standard to provide for the identification of certain motor vehicles and their major replacement parts to impede motor vehicle theft. 49 U.S.C. Section 33106 provides for an exemption to this identification process by petitions from manufacturers who equip covered vehicles with standard original equipment antitheft devices, which the Secretary determines are likely to be as effective in reducing or deterring theft as parts-marking. NHTSA may exempt a vehicle line from the parts marking requirement, if the manufacturer installs an antitheft device as standard equipment on the entire vehicle line for which it seeks an exemption and NHTSA determines that the antitheft device is likely to be as effective in reducing and deterring motor vehicle theft as compliance with the parts-marking requirements. In accordance with 49 U.S.C. 33106, after model year (MY) 2000, the number of new exemptions is contingent on a finding by the Attorney General as part of its long-range review of effectiveness. After consulting with DOJ, the agency decided it could continue granting one exemption per model year pending the results of the long-term review.

In a final rule published on April 6, 2004, the Federal Motor Vehicle Theft Prevention Standard was extended to include all passenger cars and multipurpose passenger vehicles with a gross vehicle rating of 6,000 pounds or less, and to light duty trucks with major parts that are interchangeable with a majority of the covered major parts of multipurpose passenger vehicles. Consistent with this DOJ consultation, the April 6, 2004 final rule amended the general requirements of Section 543.5 of Chapter 49 of the Code of Federal Regulations, allowing a manufacturer to petition NHTSA to grant an exemption for one additional line of its passenger motor vehicles from the requirements of the theft prevention standard for each model year after MY 1996. The final rule became effective September 1, 2006.

Prior to September 1, 2006, manufacturers were only allowed to petition NHTSA for high-theft vehicles lines. In its April 6, 2004 final rule, the agency amended part 543 to allow vehicle manufacturers to file petitions to exempt all vehicle lines that would become subject to parts-marking requirements beginning with the effective date of the final rule. As a result of this amendment, vehicle manufacturers are allowed to file petitions to exempt all vehicles lines that would become subject to the parts-marking requirements regardless of their theft status (high or low). While there are approximately 21 vehicle manufacturers, 33 petitions for exemption from the parts-marking requirements have been received by the agency for MYs 2013-2015, averaging approximately 11 responses per year. We anticipate this to remain the average number of yearly responses received by the agency.

NHTSA estimates that the average hours per submittal will be 166, for a total annual burden of 1,826. NHTSA estimates that the cost associated with the burden hours is a $39.49 per hour, for a total cost of approximately $72,109.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Lori K. Summers,
Director, Office of Crashworthiness Standards.

[FR Doc. 2014-06215 Filed 3-20-14; 8:45 am]

BILLING CODE 4910-59-P